DEPARTMENT OF HEALTH AND HUMAN SERVICES

Centers for Disease Control and Prevention

[30Day-17-0215]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Application Form and Related Forms for the Operation of the National Death Index (NDI) (OMB No. 0920-0215, Expiration 10/31/2016)—Revision—National Center for Health Statistics (NCHS), Centers for Disease Control and Prevention (CDC).

Background and Brief Description

Section 306 of the Public Health Service (PHS) Act (42 U.S.C.), as amended, authorizes that the Secretary of Health and Human Services (HHS), acting through the National Center for Health Statistics (NCHS), shall collect statistics on the extent and nature of illness and disability of the population of the United States. To improve understanding of population health, influences on health, and health outcomes, NCHS compiles data about a wide variety of health indicators. Information can be analyzed by NCHS and other entities to help guide public health and health policy decisions.

The National Death Index (NDI) is a centralized NCHS repository of identifiable information about deaths that have occurred in the United States since 1979. The NDI is compiled from records submitted annually to NCHS by all state vital statistics offices. NCHS maintains the NDI to facilitate medical epidemiology and research. Researchers may request NDI data and services by completing an initial NDI Application Form and submitting records of study subjects for computer matching against the NDI file. Additional forms used for NDI administration include the Repeat Request Form and the Transmittal Form.

The standard search against the NDI file provides the relevant states and dates of death, and the death certificate numbers of deceased study subjects. Using the NDI Plus service, researchers have the option of also receiving cause of death information for deceased subjects, thus reducing the need to request copies of death certificates from the states. The NDI Plus option currently provides the International Classification of Disease (ICD) codes for the underlying and multiple causes of death for the years 1979-2015.

CDC requests OMB approval to update the three data collection forms used by NCHS to administer NDI services. The form updates include editorial changes needed to capture current modes of data transfer and service payment options, clarifications to the instructions for NDI applicants, the inclusion of an item to capture any resulting publications, and additional terms and conditions associated with the confidentiality agreement.

OMB approval is requested for three years. There is no cost to respondents except for their time. The total estimated annual burden hours are 507, an increase of 325 hours due to an anticipated increase in both the number of applicants and the average time needed to complete the application form.

Estimated Annualized Burden Hours
Type of respondents | Form name | Number of respondents | Number of responses per respondent | Average burden per response (in hrs.)
Researchers | Application Form | 100 | 1 | 4.5
| Repeat Request Form | 70 | 1 | 18/60
| Data Transmittal Form | 120 | 1 | 18/60

Leroy A. Richardson,
Chief, Information Collection Review Office, Office of Scientific Integrity, Office of the Associate Director for Science, Office of the Director, Centers for Disease Control and Prevention.

[FR Doc. 2016-24846 Filed 10-13-16; 8:45 am]

BILLING CODE 4163-18-P